DEPARTMENT OF AGRICULTURE

Rural Business-Cooperative Service

Amendment to Notice of Funding Availability for the Rural Energy for America Program

AGENCY: Rural Business-Cooperative Service, USDA.

ACTION: Notice.

SUMMARY: The Rural Business-Cooperative Service (Agency) published a notice in the Federal Register of March 29, 2013, (78 FR Doc. 2013-07275) announcing the acceptance of applications for funds available under the Rural Energy for America Program (REAP) for Fiscal Year 2013. The Consolidated and Further Continuing Appropriations Act, 2013 (Pub. L. 113-6), provides additional funding for REAP. To provide the public additional opportunity to apply for these additional funds, this Notice extends the application period from April 30, 2013, to May 31, 2013, for renewable energy systems and energy efficiency improvement projects grants and grant and loan combination applications and for renewable energy system feasibility study applications. The Agency is also adding a provision to ensure consistency with the intent of 2 CFR 25.205. A separate notice will be published to amend the funding available under REAP.

FOR FURTHER INFORMATION CONTACT: For information about this Notice, please contact Mr. Kelley Oehler, Branch Chief, USDA Rural Development, Energy Division, 1400 Independence Avenue SW., Washington, DC 20250. Telephone: (202) 720-6819. Email: kelley.oehler@wdc.usda.gov.

SUPPLEMENTARY INFORMATION: The Agency is amending the DATES section in the Notice of Funding Availability for the Rural Energy for America Program, which was published on March 29, 2013 (78 FR Doc. 2013-07275). To provide the public additional time to submit applications as the result of additional funding being made available to the Agency, the Agency is extending the application deadline for three sets of applications: (1) Renewable energy system (RES) and energy efficiency improvement (EEI) grants, (2) RES and EEI grant and loan combinations and (3) RES feasibility study grants. For this set of applications, the deadline is being extended from April 30, 2013, to May 31, 2013. Note that the application deadline for RES and EEI guaranteed loan only applications is not being modified. The Agency is adding a provision to conform with the intent of 2 CFR 25.205, which allows the Agency to determine an applicant is not eligible for an award if the System for Award Management and Dun and Bradstreet Data Universal Numbering System requirements are not met. No other changes are being made to the March 29, 2013, Notice at this time.

Summary of Changes

1. In the third column on page 19183, the second paragraph under the DATES section is revised to read as follows:

For renewable energy system and energy efficiency improvement grant applications and combination grant and guaranteed loan applications, no later than 4:30 p.m. local time May 31, 2013.

2. In the third column on page 19183, the fourth paragraph under the DATES section is revised to read as follows:

For renewable energy system feasibility study applications, no later than 4:30 p.m. local time May 31, 2013.

3. In the first column on page 19187, subparagraph (d) is being added after subparagraph E. (4)(c) and before subparagraph (5), to read as follows:

(d) At the time the Agency is ready to make an award, if the applicant has not complied with subparagraph E. (4)(a) through (c) of this section, the Agency may determine the applicant is not eligible to receive the award.

Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to: USDA, Assistant Secretary for Civil Rights, Office of the Assistant Secretary for Civil Rights, 1400 Independence Avenue SW., Stop 9410, Washington, DC 20250-9410 or call toll-free at (866) 632-9992 (English) or (800) 877-8339 (TDD) or (866) 377-8642 (English Federal-relay) or (800) 845-6136 (Spanish Federal-relay). USDA is an equal opportunity provider and employer.

Dated: April 29, 2013.
Lillian E. Salerno,
Acting Administrator, Rural Business-Cooperative Service.

[FR Doc. 2013-10941 Filed 5-7-13; 8:45 am]

BILLING CODE 3410-XY-P